DEPARTMENT OF LABOR

Employment and Training Administration

[TA-W-81,448]

General Dynamics Itronix Corporation; A Subsidiary of General Dynamics Corporation, Including Remote Workers Reporting to Sunrise, FL; Notice of Revised Determination on Reconsideration

On June 22, 2012, the Department of Labor issued a Notice of Affirmative Determination Regarding Application for Reconsideration applicable to workers and former workers of General Dynamics Itronix Corporation, a subsidiary of General Dynamics Corporation, Sunrise, Florida (subject firm). The workers' firm is engaged in activities related to the supply of program management services for rugged laptop computers and rugged mobile devices. The worker group includes remote workers reporting to Sunrise, Florida.

Based on information provided during the reconsideration investigation, the Department determines that worker separations at the subject firm are related to increased imports of articles which are produced using services supplied by the subject firm.

Section 222(a)(1) has been met because a significant number or proportion of the workers in General Dynamics Itronix Corporation, Sunrise, Florida have become totally or partially separated, or are threatened to become totally or partially separated.

Section 222(a)(2)(A)(i) has been met because the sales and/or production by General Dynamics Itronix Corporation, Sunrise, Florida have decreased absolutely.

Section 222(a)(2)(A)(ii) has been met because company imports of articles like or directly competitive with those which are/were produced by using the services supplied by workers of General Dynamics Itronix Corporation, Sunrise, Florida have increased during the relevant period.

Finally, Section 222(a)(2)(A)(iii) has been met because increased company imports contributed importantly to the worker group separations and sales/production declines at General Dynamics Itronix Corporation, Sunrise, Florida.

Conclusion

After careful review of the additional facts obtained on reconsideration, I determine that workers of General Dynamics Itronix Corporation, a subsidiary of General Dynamics Corporation, including remote workers reporting to, Sunrise, Florida, who are/were engaged in employment related to the supply of program management services for rugged laptop computers and rugged mobile devices, meet the worker group certification criteria under Section 222(a) of the Act, 19 U.S.C. 2272(a). In accordance with Section 223 of the Act, 19 U.S.C. 2273, I make the following certification:

All workers of General Dynamics Itronix Corporation, a subsidiary of General Dynamics Corporation, including remote workers reporting to, Sunrise, Florida, who became totally or partially separated from employment on or after March 23, 2011, through two years from the date of certification, and all workers in the group threatened with total or partial separation from employment on the date of certification through two years from the date of certification, are eligible to apply for adjustment assistance under Chapter 2 of Title II of the Trade Act of 1974, as amended.

Signed in Washington, DC, this 16th day of July 2012.
Del Min Amy Chen,
Certifying Officer, Office of Trade Adjustment Assistance.

[FR Doc. 2012-18420 Filed 7-27-12; 8:45 am]

BILLING CODE 4510-FN-P